DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Maternal and Child Health Services Title V Block Grant Program—Guidance and Forms for the Title V Application/Annual Report (OMB No. 0915-0172)—Revision

The Health Resources and Services Administration (HRSA) proposes to revise the Maternal and Child Health Services Title V Block Grant Program—Guidance and Forms for the Application/Annual Report. The guidance is used annually by the 50 States and 9 jurisdictions in making application for Block Grants under Title V of the Social Security Act, and in preparing the required annual report. The proposed revisions follow and build on extensive consultation received from a Workgroup convened in 2002 to provide suggestions for improving the guidance and forms. The proposed revisions are editorial and technical revisions in nature, and are based on the experience of the States and jurisdictions using previous versions of the guidance. Changes include consolidating the narrative to reduce redundancy, and reducing the number of Health Status Indicators (HSI) required in the application/annual report.

In addition, HRSA proposes changing the format for electronic submission to direct web entry. Web based data and text entry will provide for automatic calculation of ratios, rates, and percentages, carry data over year-to-year, and assure that data used in multiple tables are entered only once. It will also facilitate the orderly printing of tables, text, and required appendices.

The guidance used annually by the 50 States and 9 jurisdictions had a previous estimated burden of 358 hours. Based on the new revisions and more efficient electronic submission, the estimated burden has been reduced by 5% to 322 hours. The estimated response burden is as follows:

Type of form | Number of respondents | Responses per respondent | Burden hours per response | Total burden hours
Application and Annual Report, with needs assessment *:
States | 50 | 1 | 428 | 21,400
Jurisdictions | 9 | 1 | 228 | 2,052
Application and Annual Report, without needs assessment *:
States | 50 | 1 | 313 | 15,658
Jurisdictions | 9 | 1 | 126 | 1,134
* The Application and Annual Report, with needs assessment, will be submitted in FY 2005. The Application and Annual Report, without needs assessment, will be submitted in FY 2003 and FY 2004. The average annual total burden hours for the next three years is 19,007. The average annual burden per respondent 322 hours.

Written comments and recommendations concerning the proposed information collection should be sent within 30 days of this notice to: John Morrall, Human Resources and Housing Branch, Office of Management and Budget, New Executive Office Building, Room 10235, Washington, DC 20503.

Dated: March 19, 2003.
Jane M. Harrison,
Director, Division of Policy Review and Coordination.

[FR Doc. 03-7089 Filed 3-25-03; 8:45 am]

BILLING CODE 4165-15-P